SECURITIES AND EXCHANGE COMMISSION

[Release No. 34-48063; International Series Release No. 1269]

List of Foreign Issuers That Have Submitted Information Under the Exemption Relating to Certain Foreign Securities

June 19, 2003.

Foreign private issuers with total assets in excess of $10,000,000 and a class of equity securities held of record by 500 or more persons, of which 300 or more reside in the United States, are subject to registration under Section 12(g) of the Securities Exchange Act of 1934 ¹ (the “Act”).²

¹ 15 U.S.C. 78a et seq.

² Foreign issuers may also be subject to such requirements of the Act by reason of having securities registered and listed on a national securities exchange in the United States, and may be subject to the reporting requirements of the Act by reason of having registered securities under the Securities Act of 1933, 15 U.S.C. 77a et seq.

Rule 12g3-2(b) ³ provides an exemption from registration under Section 12(g) of the Act with respect to a foreign private issuer that submits to the Commission, on a current basis, the material required by the Rule. The informational requirements are designed to give investors access to certain information so they have the opportunity to inform themselves about the issuer. The Rule requires the issuer to provide the Commission with information that it has: (1) Made or is required to make public pursuant to the law of the country of its domicile or in which it is incorporated or organized; (2) filed or is required to file with a stock exchange on which its securities are traded and that was made public by such exchange; and/or (3) distributed or is required to distribute to its security holders.

³ 17 CFR 240.12g3-2(b).

When the Commission adopted Rule 12g3-2(b) and other rules ⁴ relating to foreign securities, it indicated that from time to time it would publish lists showing those foreign issuers that have claimed exemptions from the registration provisions of Section 12(g) of the Act.⁵ The purpose of this release is to call to the attention of brokers, dealers and investors, that some form of relatively current information concerning the issuers included in this list is available in the Commission's public files.⁶ The Commission also wishes to bring to the attention of brokers, dealers, and investors the fact that current information concerning foreign issuers may not necessarily be available in the United States.⁷ The Commission continues to expect that brokers and dealers will consider this fact in connection with their obligations under the federal securities laws to have a reasonable basis for recommending those securities to their customers.⁸

⁴ Exchange Act Release No. 8066 (April 28, 1967).

⁵ Exchange Act Release No. 45855 (May 1, 2002) was the last such list.

⁶ Inclusion of an issuer on the list in this release is not an affirmation by the Commission that the issuer has complied or is complying with all the conditions of Rule12g3-2(b). The list does identify those issuers that have both claimed the exemption and have submitted relatively current information to the Commission as of May 21, 2003.

⁷ Paragraph (a)(4) of Rule 15c2-11 [17 CFR 240.15c2-11] requires a broker-dealer initiating a quotation for securities of a foreign private issuer to review, maintain in its files, and make reasonably available upon request, the information furnished to the Commission pursuant to Rule 12g3-2(b) since the beginning of the issuer's last fiscal year.

⁸ See, e.g., Hanley v. SEC, 415 F.2d 589 (2d Cir. 1969) (broker-dealer cannot recommend a security unless an adequate and reasonable basis exists for such recommendation).

Direct any questions regarding Rule 12g3-2 or the list of issuers in this release to Nina Mojiri-Azad, Office of International Corporate Finance, Division of Corporation Finance, Securities and Exchange Commission, Washington, DC 20549-0302 ((202) 942-2990). This release is available on the Commission's Web site: www.sec.gov. Requests for copies may also be directed to the Public Reference Room, Securities and Exchange Commission, Washington, DC 20549-0102 ((202) 942-8090).

For the Commission, by the Division of Corporation Finance, pursuant to delegated authority.
Margaret H. McFarland,
Deputy Secretary.

Company name | Country | File No.
10 Group plc | United Kingdom | 82-5229
3DM Worldwide plc | United Kingdom | 82-34705
4 Imprint Group plc | United Kingdom | 82-5104
AB Lietuvos Telekomas | Lithuania | 82-5086
Accor S.A | France | 82-4672
ACOM Co. Ltd | Japan | 82-4121
Adidas Salomon AG | Germany | 82-4278
Advanced Info Service Public Co. Ltd | Thailand | 82-3236
AEM S.p.A | Italy | 82-4911
Aeroflot Russian International Airlines | Russia | 82-4592
African Gem Resources Ltd | South Africa | 82-34638
African Marine Minerals Corp | Canada | 82-3329
Afrikander Lease Ltd | South Africa | 82-34632
Agenix Ltd | Australia | 82-34639
AIFUL Corp | Japan | 82-4802
Air France | France | 82-5050
Airspray N.V | Netherlands | 82-34700
Aldeasa S.A | Spain | 82-4774
All Nippon Airways Co. Ltd | Japan | 82-1569
Allgreen Properties Ltd | Singapore | 82-4959
Alpha General Holdings Ltd | Bermuda | 82-34649
Altai Resources, Inc | Canada | 82-2950
Altran Technologies S.A | France | 82-5164
Amadeus Global Travel Distribution S.A | Spain | 82-5173
America Telecom S.A de C.V. | Mexico | 82-34636
American Manor Corp | Canada | 82-4158
AMP Ltd | Australia | 82-34713
AMRAD Corp. Ltd | Australia | 82-4867
AmSteel Corp Berhad | Malaysia | 82-3318
Angang New Steel Co. Ltd | China | 82-34663
Anglo American Corp. of South Africa | South Africa | 82-97
Anglo Irish Bank Corp. plc | Ireland | 82-3791
Antofagasta plc | United Kingdom | 82-4987
AO Mosenergo | Russia | 82-4475
AO Samaraenergo | Russia | 82-4708
AO Siberian Oil Company | Russia | 82-4882
AO Surgutneftegas | Russia | 82-4302
AO TD Gum | Russia | 82-4132
Apasco | Mexico | 82-3103
APF Energy Trust | Canada | 82-5166
Applied Gaming Solutions of Canada Inc | Canada | 82-4832
Applied Optical Technologies plc | United Kingdom | 82-5165
Aquarius Platinum Ltd | Bermuda | 82-5097
Arcelor SA | Luxembourg | 82-34727
Arcon International Resources plc | Ireland | 82-4803
Argent Resources Ltd | Canada | 82-5091
Arisawa Manufacturing Co. Ltd | Japan | 82-4620
Artel Solutions Group Holdings Limited | Cayman Islands | 82-34697
Asia Fiber Public Co. Ltd | Thailand | 82-2842
Atlas Copco | Sweden | 82-812
Australian Gas Light Company | Australia | 82-4797
Australian Oil & Gas Corp. Ltd | Australia | 82-4576
Austrian Airlines | Austria | 82-4970
Auterra Ventures Inc | Canada | 82-4653
Autogen Ltd | Australia | 82-34666
Avalon Ventures Ltd | Canada | 82-4427
Avgold Ltd | South Africa | 82-4482
BAA plc | United Kingdom | 82-3372
Bacardi Ltd | Bermuda | 82-4992
Banca Popolare di Lodi | Italy | 82-4855
Banco Mercantil S.A | Bolivia | 82-4296
Bandai Co. Ltd | Japan | 82-3919
Bangkok Bank Public Co. Ltd | Thailand | 82-4835
Bank Handlowy w Warszawie SA | Poland | 82-4613
Bank of East Asia Ltd | Hong Kong | 82-3443
Bank of Fukuoka Ltd | Japan | 82-1117
Bank Vozrozhdeniye | Russia | 82-4257
BankInter S.A | Spain | 82-2972
BCE Emergis Inc | Canada | 82-5206
Beghin Say | France | 82-5209
Beijing Beida Jade Bird Universal Sci-Tech Co. Ltd | China | 82-34651
Beijing Enterprises Holdings Ltd | Hong Kong | 82-34642
Belluna Co. Ltd | Japan | 82-5233
Benfield Group Ltd | Bermuda | 82-34726
Bespak plc | United Kingdom | 82-3349
Beta Systems Software AG | Germany | 82-4631
BHP Steel Ltd | Australia | 82-34676
Billerud AB | Sweden | 82-34625
BioMS Medical Corp | Canada | 82-34689
Bionomics Limited | Australia | 82-34682
Blackrock Ventures Inc | Canada | 82-4555
Blue Power Energy Corp | Canada | 82-2213
BNP Paribas | France | 82-3757
BOC Hong Kong Holdings Ltd | Hong Kong | 82-34675
Bohler Uddeholm AG | Austria | 82-4089
Boliden Ltd | Canada | 82-4707
Bombardier Inc | Canada | 82-3123
Boots Group plc | United Kingdom | 82-34701
Boral Ltd | Australia | 82-5054
Bradford & Bingley plc | United Kingdom | 82-5154
Brambles Industries plc | United Kingdom | 82-5205
Brazil Realty S.A | Brazil | 82-4454
Bresagen Ltd | Australia | 82-5135
Bridgestone Corp | Japan | 82-1264
Burberry Group plc | United Kingdom | 82-34691
Burns Philip & Company Ltd | Australia | 82-1565
BWT Aktiengesellschaft | Austria | 82-5221
C Squared Developments Inc | Canada | 82-1756
C.I. Fund Management Inc | Canada | 82-4994
Cal-Star Inc | Canada | 82-2406
Canadian Everock Explorations Inc | Canada | 82-5163
Canadian Metals Exploration Ltd | Canada | 82-2143
Canadian Oil Sands Trust | Canada | 82-5189
Canadian Western Bank | Canada | 82-4478
Canfibre Group Ltd | Canada | 82-2222
Cap Gemini S.A | France | 82-5065
Capitaland Ltd | Singapore | 82-4507
Caribbean Cement Co. Ltd | Jamaica | 82-3715
Carso Global Telecom | Mexico | 82-4379
Cassa di Risparmio di Firenze S.p.A | Italy | 82-5126
Cathay Pacific Airlines Ltd | Hong Kong | 82-1390
Cementos Lima S.A | Peru | 82-3911
Centrais Eletricas de Santa Caterina | Brazil | 82-3795
Central Termica Guemas S.A | Argentina | 82-5145
Centrica plc | United Kingdom | 82-4518
Cereol | France | 82-5210
Cerestar | France | 82-5211
Cerveceria Nacional S.A | Panama | 82-4704
Ceska Sporitelna A.S | Czech Republic | 82-4384
CESP Companhia Energetica de Sao Paulo | Brazil | 82-3691
Challenger Minerals Ltd | Canada | 82-3666
Champion Natural Health Com Inc | Canada | 82-4485
Chaoda Modern Agriculture Holdings Ltd | Cayman Islands | 82-34644
Chengdu PTIC Telecommunications Cable Co. Ltd | China | 82-4573
Cheung Kong Holdings Ltd | Hong Kong | 82-4138
China Oilfield Services Ltd | China | 82-34696
China Online Bermuda Ltd | Bermuda | 82-3654
China Pharmaceutical Enterprise & Investment Corp | Hong Kong | 82-4135
China Resources Enterprise Ltd | Hong Kong | 82-4177
China Steel Corp | Taiwan | 82-3296
China Strategic Holdings Ltd | Hong Kong | 82-3596
Chr. Hansen Holding A/S | Denmark | 82-34732
Chugai Pharmaceutical Co. Ltd | Japan | 82-34668
Cia Forca e Luz Cataguases Leopoldina | Brazil | 82-5147
CITIC Pacific Ltd | Hong Kong | 82-5232
Citiraya Industries Ltd | Singapore | 82-34706
CML Microsystems plc | United Kingdom | 82-3176
Coca Cola Amatil Ltd | Australia | 82-2994
Companhia de Transmissao de Energeria Electrica Paulista | Brazil | 82-4980
Companhia Siderurgica Belgo Mineira | Brazil | 82-3771
Companhia Suzano De Papel E Celulose | Brazil | 82-3550
Compass Group plc | United Kingdom | 82-5161
Computershare Ltd | Australia | 82-4966
Concept Wireless Inc | Canada | 82-4003
Consolidated Odyssey Exploration Inc | Canada | 82-3934
Consolidated Pine Channel Gold Corp | Canada | 82-2583
Consolidated Westview Resource Corp | Canada | 82-2601
Continental AG | Germany | 82-1357
Continental Precious Minerals Inc | Canada | 82-3358
Cora Resources Ltd | Canada | 82-4571
Corporacion Geo S.A. de C.V. | Mexico | 82-3870
Corriente Resources Inc | Canada | 82-3775
Cross Lake Minerals Ltd | Canada | 82-2636
CSK Corporation | Japan | 82-781
Cue Energy Resources Limited | New Zealand | 82-34692
Curion Venture Corp | Canada | 82-3602
Curran Bay Resources | Canada | 82-34724
Cybird Co. Ltd | Japan | 82-5139
Cycle & Carriage Ltd | Singapore | 82-3163
Dah Sing Financial Group | Hong Kong | 82-4272
Daido Life Insurance Co | Japan | 82-34658
Dairy Farm International Holdings Ltd | Hong Kong | 82-2962
Davide Campari Milano S.p.A | Italy | 82-5203
DBS Group Holdings Ltd | Singapore | 82-3172
De Longhi S.p.A | Italy | 82-34652
Del Monte Pacific Ltd | British Virgin Islands | 82-5068
Den Danske Bank Aktieselskab | Denmark | 82-1263
Dentsu Inc | Japan | 82-5241
DEPFA Deutsche Pfandbriefbank AG | Germany | 82-4822
Deutsche Beteiligungs Holding AG | Germany | 82-4977
Deutsche Lufthansa AG | Germany | 82-4691
Devine Entertainment Corp | Canada | 82-4118
Dexia Belgium | Belgium | 82-4606
Dixons Group plc | United Kingdom | 82-3331
Dofasco Inc | Canada | 82-3226
DRC Resources Corp | Canada | 82-713
DSM N.V | Netherlands | 82-3120
E New Media Co. Ltd | Hong Kong | 82-5101
East Japan Railway Co | Japan | 82-4990
Eastmain Resources Inc | Canada | 82-4421
Editora Saraiva S.A | Brazil | 82-5046
EI Environmental Engineering Concepts Ltd | Canada | 82-1598
Eisai Co. Ltd | Japan | 82-4015
E-Kong Group Ltd | Bermuda | 82-34653
Electrocomponents plc | United Kingdom | 82-34672
Emgold Mining Corp | Canada | 82-3003
EMI Group plc | United Kingdom | 82-373
Enerco Energy Service Co., Inc | Canada | 82-1162
Energy Africa Ltd | South Africa | 82-4306
EnviroMission Limited | Australia | 82-34693
Epic Oil & Gas Ltd | Canada | 82-5045
Erciyas Biracilik ve Malt Sanayi AS | Turkey | 82-4144
Erste Bank | Austria | 82-5066
Essilor International | France | 82-4944
European Aeronautic Defence & Space Co | Netherlands | 82-34662
Eurotunnel plc | United Kingdom | 82-3000
Eurotunnel S.A | France | 82-2999
Evergreen Forests Ltd | New Zealand | 82-4114
Exel plc | United Kingdom | 82-34655
Expo Resources Inc | Canada | 82-34730
Fancamp Resources Ltd | Canada | 82-3929
FANCL Corporation | Japan | 82-5032
Ferreyros SA | Peru | 82-34695
First Australian Resources N.L | Australia | 82-3494
First Pacific Co. Ltd | Hong Kong | 82-836
First Quantum Minerals Ltd | Canada | 82-4461
First Silver Reserve Inc | Canada | 82-3449
First Tractor Company Ltd | China | 82-4772
FJA AG | Germany | 82-5077
FNX Mining Co. Inc | Canada | 82-34684
Fortis Amev | Belgium | 82-3118
Fortis S.A./N.V | Belgium | 82-5234
Foschini Ltd | South Africa | 82-4044
Fosters Brewing Group Ltd | Australia | 82-1711
Franc Or Resources Corp | Canada | 82-4164
Friends Provident plc | United Kingdom | 82-34640
Frutarom Industries Ltd | Israel | 82-4357
Fubon Insurance Co. Ltd | Taiwan | 82-4788
Fuji Photo Film Co. Ltd | Japan | 82-78
Fuji Television Network | Japan | 82-5176
Fujisawa Pharmaceutical Co. Ltd | Japan | 82-5231
Fujitsu Support & Service | Japan | 82-4885
Funai Electric Ltd | Japan | 82-5078
G. Accion S.A. de C.V | Mexico | 82-4590
Gambro AB | Sweden | 82-34731
Gamesa S.A | Spain | 82-5201
Gammon Lakes Resources Inc | Canada | 82-4909
Genbel South Africa Ltd | South Africa | 82-235
Gencor Ltd | South Africa | 82-311
Generale de Sante S.A | France | 82-34626
Genetic Technologies Ltd | Australia | 82-34627
Genting Berhad | Malaysia | 82-4962
GGL Diamond Corp | Canada | 82-1209
Giordano International Ltd | Bermuda | 82-3780
Gitennes Exploration Inc | Canada | 82-4170
Glanbia Public Ltd | Ireland | 82-4734
Globel Direct Inc | Canada | 82-5084
Glorius Sun Enterprises Ltd | Bermuda | 82-4581
Golconda Resources Ltd | Canada | 82-3167
Gold Peak Industries (Holdings) Ltd | Hong Kong | 82-3604
Goldas Kuyumculuk Sanayi Ithalat Ihracat AS | Turkey | 82-5223
Goldcliff Resource Corp | Canada | 82-2748
Golden Arch Resources Ltd | Canada | 82-659
Golden Hope Mines Ltd | Canada | 82-3023
Goldshore Holdings plc | United Kingdom | 82-34678
Goodman Fielder Ltd | Australia | 82-2009
Govett Strategic Investment Trust plc | United Kingdom | 82-287
Grand Hotel Holdings Ltd | Hong Kong | 82-3408
Grasim Industries Ltd | India | 82-3322
Great Eagle Holdings Ltd | Bermuda | 82-3940
Great Quest Metals Ltd | Canada | 82-3116
Great-West Lifeco Inc | Canada | 82-34728
Greencore Group plc | Ireland | 82-4908
Grupo Carso S.A. de C.V | Mexico | 82-3175
Grupo Comercial Gomo S.A. de C.V | Mexico | 82-34661
Grupo Dataflux | Mexico | 82-4899
Grupo Ferrovial S.A | Spain | 82-4939
Grupo Financiero BBVA Bancomer S.A. de C.V | Mexico | 82-3273
Grupo Gigante, S.A. de C.V | Mexico | 82-3142
Grupo Herdez S.A. de C.V | Mexico | 82-3818
Grupo Industrial Saltillo | Mexico | 82-5019
Grupo Melo S.A | Panama | 82-4893
Grupo Mexico S.A. de C.V | Mexico | 82-4582
Grupo Posadas S.A. de C.V | Mexico | 82-3274
GTECH International Resources Ltd | Canada | 82-3779
Guangdong Investment Ltd | Hong Kong | 82-3772
Guangzhou Investment Co. Ltd | Hong Kong | 82-4247
Guangzhou Pharmaceutical Co. Ltd | China | 82-34656
GUS plc | United Kingdom | 82-5017
Gzitic Hauling Holdings Ltd | Hong Kong | 82-4195
H. Lundbeck A.S | Denmark | 82-4973
Hagemeyer N.V | Netherlands | 82-4865
Halifax Group plc | United Kingdom | 82-5003
Hang Lung Properties Ltd | Hong Kong | 82-3410
Hang Seng Bank Ltd | Hong Kong | 82-1747
Hanny Holdings Ltd | Bermuda | 82-3638
Hansom Eastern Holdings Ltd | Cayman Islands | 82-4152
HBOS plc | United Kingdom | 82-5222
Heineken Holding N.V | Netherlands | 82-5149
Heineken N.V | Netherlands | 82-4953
Henderson Investment Ltd | Hong Kong | 82-3964
Henderson Land Development Co. Ltd | Hong Kong | 82-1561
Henkel KGAA | Germany | 82-4437
Henlys Group plc | United Kingdom | 82-5051
Herald Resources Ltd | Australia | 82-4295
Highveld Steel & Vanadium Corp. Ltd | South Africa | 82-596
Hikari Tsushin Inc | Japan | 82-4998
Hilasal Mexicana S.A. de C.V | Mexico | 82-4743
Hindalco Industries Ltd | India | 82-3428
Hino Motors Ltd | Japan | 82-1388
Hip Interactive Corp | Canada | 82-34720
Hoganas AB | Sweden | 82-3754
Hokuriku Bank Ltd | Japan | 82-1045
Holcim Ltd | Switzerland | 82-4093
Hong Kong & China Gas Company Ltd | Hong Kong | 82-1543
Hong Kong Construction Holdings Ltd | Hong Kong | 82-4029
Hong Kong Electric Holdings | Hong Kong | 82-4086
Hornbach-Baumarkt AG | Germany | 82-3729
Hypothekenbank in Essen AG | Germany | 82-4883
Hysan Development Company Ltd | Hong Kong | 82-1617
Hyundai Motor Company | Korea | 82-3423
I.T.C. Limited | India | 82-3470
IEI Energy Inc | Canada | 82-1032
IEM S.A. de C.V | Mexico | 82-2337
Impala Platinum Holdings Ltd | South Africa | 82-359
Imperial Metals Corp | Canada | 82-34714
Imperial One International Ltd | Australia | 82-1257
Inapa Investimentos Participacoes e Gestao S.A | Portugal | 82-4864
Inca Pacific Resources Inc | Canada | 82-1665
Industria de Diseno Textil S.A | Spain | 82-5185
International Health Partners Inc | Canada | 82-4868
International PBX Ventures Ltd | Canada | 82-2635
International Road Dynamics Inc | Canada | 82-3899
Internet Identity Presence Co. Inc | Canada | 82-478
Interpump Group S.p.A | Italy | 82-4511
Interstar Mining Group. Inc | Canada | 82-3759
Invensys plc | United Kingdom | 82-2142
Investor AB | Sweden | 82-34698
IP Applications Corp | Canada | 82-34637
IT Holding SpA | Italy | 82-4728
Italian Thai Development Public Co. Ltd | Thailand | 82-4299
Itech Capital Corp | Canada | 82-3200
Jamaica Broilers Group Ltd | Jamaica | 82-3720
Jannock Properties Ltd | Canada | 82-5062
Japan Airlines Company Ltd | Japan | 82-122
Japan Future Information Technology & Systems | Japan | 82-34657
Japan Retail Fund Investment Corp | Japan | 82-34716
Japan Telecom Co | Japan | 82-3943
Jardine Matheson Holdings Ltd | Bermuda | 82-2963
Jardine Strategic Holdings Ltd | Bermuda | 82-3085
Jasmine International Public Co. Ltd | Thailand | 82-4876
JCDecaux S.A | France | 82-34631
JD Group Limited | South Africa | 82-4401
JG Summit Holdings Inc | Philippines | 82-3572
Jiangsu Expressway Co. Ltd | China | 82-34677
Jiangxi Copper Co. Ltd | China | 82-34715
Jinhui Holdings Co. Ltd | Hong Kong | 82-3765
Jinhui Shipping & Transportation Ltd | Bermuda | 82-4054
JKX Oil & Gas plc | United Kingdom | 82-34709
JNR Resources Inc | Canada | 82-4720
Johnnic Communications Ltd | South Africa | 82-5184
Johnnic Holdings Ltd | South Africa | 82-5128
Johnson Electric Holdings Ltd | Hong Kong | 82-2416
Johnson Matthey plc | United Kingdom | 82-2272
Jones David Ltd | Australia | 82-4230
JSAT Corp | Japan | 82-5111
JSC Buryatzoloto | Russia | 82-4619
JSC Electrosvyaz Rostov Region | Russia | 82-4740
JSC Irkutskenergo | Russia | 82-4458
JSC Khantymansiyskokrtelecom | Russia | 82-4823
JSC Moscow City Telephone Network | Russia | 82-4957
JSC Primorsk Shipping Corp | Russia | 82-4717
JSC Uralsvyasinform | Russia | 82-4545
Jugos del Valle S.A. de C.V | Mexico | 82-4258
Justsystem Corp | Japan | 82-4732
K Wah Construction Materials Ltd | Hong Kong | 82-3850
Kawasaki Heavy Industries Ltd | Japan | 82-4389
Kawasaki Steel Corp | Japan | 82-3389
Keells John Holdings Ltd | Sri Lanka | 82-3854
Keika Express Co. Ltd | Japan | 82-34718
Kelso Technologies Inc | Canada | 82-2441
KGHM Polska Miedz S.A | Poland | 82-4639
Kidde plc | United Kingdom | 82-5153
Kidston Gold Mines Ltd | Australia | 82-2351
Kimberly Clark de Mexico S.A. de C.V | Mexico | 82-3308
Kingfisher plc | United Kingdom | 82-968
Kirin Brewery Co | Japan | 82-188
Klabin S.A | Brazil | 82-34628
Kobe Steel Ltd | Japan | 82-3371
Komercni Banka A.S | Czech Republic | 82-4154
Krones AG | Germany | 82-3871
Kuala Lumpur Kepong Berhad | Malaysia | 82-5022
Kumba Resources Ltd | South Africa | 82-5217
Ladbroke Group plc | United Kingdom | 82-1571
Lagardere Groupe SCA | France | 82-3916
L'Air Liquide S.A | France | 82-5224
Landesbank Rheinland-Phalz | Germany | 82-4930
Lattice Group plc | United Kingdom | 82-5110
Legacy Hotels Real Estate Investment Trust | Canada | 82-34729
Legend Group Ltd | Hong Kong | 82-3950
Lend Lease Corp. Ltd | Australia | 82-3498
Lenzing AG | Austria | 82-3207
LG Electronics Inc | Korea | 82-3857
Liberty International plc | United Kingdom | 82-34722
Liberty Life Association of Africa Ltd | South Africa | 82-3924
Lindsey Morden Group | Canada | 82-5143
Lion Industries Corp. Berhad | Malaysia | 82-3342
Loblaw Companies Ltd | Canada | 82-4918
Lonmin plc | United Kingdom | 82-191
Lopro Corp | Japan | 82-4664
L'Oreal | France | 82-735
Lukoil Oil Co | Russia | 82-4006
Magician Industries Holdings Inc | Bermuda | 82-4358
Makro Atacadista S.A | Brazil | 82-4095
Malbak Ltd | South Africa | 82-3751
Man Group plc | United Kingdom | 82-4214
Mandarin Oriental International Ltd | Hong Kong | 82-2955
Manila Electric Co | Philippines | 82-3237
Maple Minerals Inc | Canada | 82-3650
Marcopolo S.A | Brazil | 82-4310
Market Age plc | United Kingdom | 82-5230
Marks & Spencer Group plc | United Kingdom | 82-1961
Marubeni Corp | Japan | 82-616
Matsui Securities Co. Ltd | Japan | 82-5215
Maximum Ventures Inc | Canada | 82-3923
Mayr Melnhof Karton AG | Austria | 82-4052
M-Cell Ltd | South Africa | 82-5192
MCK Mining Corp | Canada | 82-3938
Medallion Resources Ltd | Canada | 82-3656
Menzies Gold N.L | Australia | 82-4536
Mercantil Servicios Financieros C.A | Venezuela | 82-4648
Metorex Ltd | South Africa | 82-34711
Metro Cash & Carry Ltd | South Africa | 82-4279
Michael Page International plc | United Kingdom | 82-5162
Michelin Compagnie Generale des Etablissements | France | 82-3354
MIM Holdings Ltd | Australia | 82-173
Minebea Co. Ltd | Japan | 82-4551
Minto Explorations Ltd | Canada | 82-4119
Mishibishu Gold Corp | Canada | 82-2682
Misr International Bank S.A.E | Egypt | 82-4629
Mitsubishi Corp | Japan | 82-3784
MJ Maillis S.A | Greece | 82-4975
Mobistar N.V./S.A | Belgium | 82-4965
Molson Inc | Canada | 82-2954
Morgan Crucible Co. plc | United Kingdom | 82-3387
Mosaic Group Inc | Canada | 82-34686
Mount Burgess Gold Mining Co | Australia | 82-1235
Mytravel Group | United Kingdom | 82-5049
NABI North American Bus Industries RT | Hungary | 82-4925
Nadro S.A. de C.V | Mexico | 82-4611
Name Brand Sales Inc | Canada | 82-5218
Nampak Limited | South Africa | 82-3714
Nedcor Ltd | South Africa | 82-3893
Nestle S.A | Switzerland | 82-1252
New GKN | United Kingdom | 82-5204
New World Infrastructure Ltd | Hong Kong | 82-4218
NIB Capital Bank | Netherlands | 82-5098
Nippon Steel Corp | Japan | 82-5175
Nissan Motor Co | Japan | 82-207
Nomura Research Institute Ltd | Japan | 82-34673
Norilsk Nickel | Russia | 82-4270
Norilsk Nickel Mining Metallurgical Co | Russia | 82-5167
Norske Skogindustrier ASA | Norway | 82-5226
Northern Abitibi Mining Corp | Canada | 82-4749
Northern Orion Explorations Ltd | Canada | 82-3153
Novar plc | United Kingdom | 82-4542
Novozymes AS | Denmark | 82-5116
Nuinsco Resources Ltd | Canada | 82-1846
Nutreco Holding N.V | Netherlands | 82-4927
NV Umicore S.A | Belgium | 82-3876
Nyzhniodniprovsky Pipe Rolling Plant | Ukraine | 82-4814
OAO Oil Co. Yukos | Russia | 82-4209
OAO United Heavy Machinery Uralmash | Russia | 82-5063
Occupational & Medical Innovations Ltd | Australia | 82-5174
OJSC Marganetsky Ore Mining & Processing | Ukraine | 82-34710
OJSC Ordzhonikidzevsky Ore Mining | Ukraine | 82-34664
OJSC Volga Telecom | Russia | 82-4642
Old Mutual plc | United Kingdom | 82-4974
Olivetti S.p.A | Italy | 82-5181
Olympus Optical Co. Ltd | Japan | 82-3326
Omega Project Co. Ltd | Japan | 82-5030
OMV AG | Austria | 82-3209
Onesteel Ltd | Australia | 82-5103
Onfem Holdings Ltd | Bermuda | 82-3735
Opap S.A | Greece | 82-34699
Open Joint Stock Company Dniproenergo | Ukraine | 82-4844
Open Joint Stock Company Electrosvyaz of Primorsky Region | Russia | 82-5200
Open Joint Stock Company Ukrnafta | Ukraine | 82-4859
Orange S.A | France | 82-5168
Orbis S.A | Poland | 82-5025
Orkla AS | Norway | 82-3998
Osterreichische Elektrizitatswirtschafts | Austria | 82-4381
PA International | Bermuda | 82-34685
Pacific Andes Int'l Holdings Ltd | Bermuda | 82-4031
Pacific Topaz Resources Ltd | Canada | 82-1285
Pacrim International Capital Inc | British Virgin Islands | 82-3812
Paperlinx Ltd | Australia | 82-5061
Paranapanema S.A | Brazil | 82-5083
Paul Y ITC Construction Holdings Ltd | Bermuda | 82-4217
Peninsular & Oriental Steam Navigation Co | United Kingdom | 82-2083
Perfect Fry Corp | Canada | 82-1609
Pernod Ricard S.A | France | 82-3361
Phoenix Canada Oil Co. Ltd | Canada | 82-3936
Pinault Printemps Redoute | France | 82-5179
Pinetree Capital Corp | Canada | 82-2759
PixelNet AG | Germany | 82-5236
Polski Koncern Naftowy | Poland | 82-5036
Power Corp. of Canada | Canada | 82-137
Power Financial Corp | Canada | 82-1716
Premier Oil Group plc | Scotland | 82-34723
Prestbury Holdings plc | United Kingdom | 82-34702
Prima Developments Ltd | Canada | 82-34703
Progress Energy Ltd | Canada | 82-34671
Prokom Software S.A | Poland | 82-4700
Promatek Industries Ltd | Canada | 82-1351
Promise Co. Ltd | Japan | 82-4837
Promotora de Informaciones | Spain | 82-5213
Provimi | France | 82-5212
PSP Swiss Property AG | Switzerland | 82-5052
PT Bank Buana Indonesia TBK | Indonesia | 82-34694
PTT Exploration & Production plc | Thailand | 82-3827
Public Power Corp S.A | Greece | 82-34707
Puma AG Rudolf Dassler Sport | Germany | 82-4369
Q P Corporation | Japan | 82-4750
Qantas Airways | Australia | 82-4130
Rabobank Nederland | Netherlands | 82-5010
Radio Gaucha S.A | Brazil | 82-4341
Raffles Medical Group | Singapore | 82-4926
Randstad Holding NV | Netherlands | 82-4956
RAO Gazprom | Russia | 82-4670
RAO Unified Energy Systems | Russia | 82-4077
Raytec Development Corp | Canada | 82-3553
RBS Participacoes S.A | Brazil | 82-4338
RBS TV de Florianopolis S.A | Brazil | 82-4340
RE Power Systems AG | Germany | 82-34654
Remgro Ltd | South Africa | 82-5106
Rentokil Initial plc | United Kingdom | 82-3806
Resorts World Berhad | Malaysia | 82-3229
Rexam plc | United Kingdom | 82-3
Rich Minerals Corp | Canada | 82-2832
Roadshow Holdings Ltd | Bermuda | 82-5208
Roche Holding Ltd | Switzerland | 82-3315
Rock Resources Inc. | Canada | 82-4504
Rolls Royce Group plc | United Kingdom | 82-34721
Rosneftegazstroy | Russia | 82-4597
RWE AG | Germany | 82-4018
S Oil Corp | Korea | 82-34630
S&T System Integration & Technology Distribution | Austria | 82-34634
S.A. Fabrica de Productos Alimenticios | Brazil | 82-4870
SABMiller plc | United Kingdom | 82-4938
Sage Group Ltd | South Africa | 82-4241
Sahaviriya Steel Industries plc | Thailand | 82-5008
SAIA-Burgess Electronics Holding AG | Switzerland | 82-4810
Saipem S.p.A | Italy | 82-4776
Sammy Corporation | Japan | 82-5227
Sam's Seafood Holdings Ltd | Australia | 82-34648
Samsung Electronics Co. Ltd | Korea | 82-3109
Sancor Cooperativas Unidas Ltd | Argentina | 82-4476
Sandvik AB | Sweden | 82-1463
Santos Ltd | Australia | 82-34
Sanyo Electric Co | Japan | 82-264
Saputo Inc. | Canada | 82-34670
Saskatchewan Wheat Pool | Canada | 82-5037
Schwanberg International Inc | Canada | 82-34712
Schwarz Pharma AG | Germany | 82-4406
SCI Entertainment Group plc | United Kingdom | 82-34659
SCMP Group Ltd | Bermuda | 82-3327
Securitas AB | Sweden | 82-34719
Sega Enterprises Ltd | Japan | 82-3439
Sekisui House Ltd | Japan | 82-5129
Sembcorp Industries Ltd | Singapore | 82-5109
Shandong International Power Dev. Co. Ltd | China | 82-4932
Shanghai Industrial Holdings Ltd | China | 82-5160
Shangri La Asia Ltd | Bermuda | 82-5006
Sharp Corp | Japan | 82-1116
Shin Corp Public Co. Ltd | Thailand | 82-3140
Shin Satellite Public Co. Ltd | Thailand | 82-4527
Shiseido Company Ltd | Japan | 82-3311
Shun Tak Holdings Ltd | Hong Kong | 82-3357
SIA Engineering Co. Ltd | Singapore | 82-5123
Siam Commercial Bank Public Co. Ltd | Thailand | 82-4345
Sigma AB | Sweden | 82-5228
Silverstone Corp Berhad | Malaysia | 82-3319
Sime Darby Berhad | Malaysia | 82-4968
Simsmetal Ltd | Australia | 82-3838
Singapore Airport Terminal Services Ltd | Singapore | 82-5117
Singapore Telecommunications Ltd | Singapore | 82-3622
Singer N.V | Netherlands | 82-34635
Skandia Insurance Co. Ltd | Sweden | 82-5079
Skandinaviska Enskilda Banken | Sweden | 82-3637
Sky Perfect Communications | Japan | 82-5113
Slovnaft AS. | Slovak Republic | 82-3721
Societe Generale | France | 82-3501
Sogecable S.A | Spain | 82-4981
Sons of Gwalia Ltd | Australia | 82-1039
Southcorp Holdings Ltd | Australia | 82-2692
Southern Pacific Petroleum N.L | Australia | 82-353
Southern Telecommunications Co | Russia | 82-4721
SPL Worldgroup B.V | Netherlands | 82-34708
St. George Bank Ltd | Australia | 82-3809
St. Jude Resources Ltd | Canada | 82-4014
Standard Chartered plc | United Kingdom | 82-5188
Starlight International Holdings Ltd | Bermuda | 82-3594
Starrex Mining Corp Ltd | Canada | 82-3755
State Bank of India | India | 82-4524
Stina Resources Ltd | Canada | 82-2062
Stratabound Minerals Corp | Canada | 82-3284
Studsvik AB | Sweden | 82-5172
Sultan Minerals Inc | Canada | 82-4741
Sumitomo Corp | Japan | 82-34680
Sumitomo Metal Industries Ltd | Japan | 82-3507
Sumitomo Mitsui Financial Group Inc. | Japan | 82-4395
Sumitomo Trust & Banking Co. Ltd | Japan | 82-4617
Sun Hung Kai Properties Ltd | Hong Kong | 82-1755
Suns Group Ltd | Bermuda | 82-4350
Suzano Petroquimica S.A | Brazil | 82-34667
Svenska Cellulosa Aktiebolagot | Sweden | 82-763
Svyazinform of the Region Samara | Russia | 82-4889
Swire Pacific Ltd | Hong Kong | 82-2184
Swiss Reinsurance Co | Switzerland | 82-4248
Synex International Inc | Canada | 82-862
Tabcorp Holdings Ltd | Australia | 82-3841
Tai Cheung Holdings Ltd | Bermuda | 82-3528
Taylor Nelson Sofres plc | United Kingdom | 82-4668
Techmarine International plc | United Kingdom | 82-34690
Technovision Systems | Canada | 82-5069
Techtronic Industries Co. Ltd | Hong Kong | 82-3648
Telefonica Data Peru S.A.A | Peru | 82-34646
Telefonica Moviles Peru Holding S.A.A | Peru | 82-34645
Telepizza | Spain | 82-5001
Televisao Gaucha S.A | Brazil | 82-4339
Tennyson Networks Ltd | Australia | 82-5138
TFS | Switzerland | 82-5095
Thai Farmers Bank Public Co. Ltd | Thailand | 82-4922
Thiz Technology Group Ltd | Cayman Islands | 82-34681
Thoughtshare Communications | Canada | 82-2442
THUS Group plc | United Kingdom | 82-34650
TNR Resources Ltd | Canada | 82-4434
Tofas Turk Otomobil Fabrikasi AS | Turkey | 82-3699
Tomorrow International Holdings Ltd | Bermuda | 82-4256
T-Online International AG | Germany | 82-5125
Toyota Industries Corporation | Japan | 82-5112
Toys “R” Us Japan Ltd | Japan | 82-5073
Tractebel Energia | Brazil | 82-4760
Tradehold Ltd | South Africa | 82-5238
Transportadora de Gas del Norte S.A | Argentina | 82-3845
TravelSky Technology Ltd | China | 82-34687
Trio Gold Corp | Canada | 82-2127
Truly International Holdings | Cayman Islands | 82-3700
Tsingtao Brewery Company Ltd | China | 82-4021
TT&T Public Co. Ltd | Thailand | 82-3744
Tullow Oil plc | United Kingdom | 82-5202
Tyumen Air Company | Russia | 82-4789
U.S. Commercial Corp. S.A. de C.V | Mexico | 82-34669
UFJ Holdings Inc | Japan | 82-5169
Unaxis Holding Inc | Switzerland | 82-34643
UNI President Enterprises Co | Taiwan | 82-3424
Unicredito Italiano | Italy | 82-3185
United Bank for Africa plc | Nigeria | 82-4804
United Grain Growers Ltd | Canada | 82-34725
United Media Ltd | Canada | 82-3859
United Overseas Bank Ltd | Singapore | 82-2947
USA Video Interactive Corp | Canada | 82-1601
Usinas Siderurgicas de Minas Gerais S.A | Brazil | 82-3902
Valeo S.A | France | 82-3668
Valerie Gold Resources Ltd | Canada | 82-3339
Vanteck VRB Technology Corp | Canada | 82-34688
Vedior N.V | Netherlands | 82-4654
Velcro Industries. N.V | Neth. Ant. | 82-145
Venfin Ltd | South Africa | 82-3760
Ventracor Ltd | Australia | 82-4630
Veos plc | United Kingdom | 82-5220
Vermilion Resources Ltd | Canada | 82-34704
Viceroy Resource Corp | Canada | 82-1193
Viktor Lenac Shipyard D.D. Rijeka | Croatia | 82-5219
Village Roadshow Ltd | Australia | 82-4513
Vinci | France | 82-4781
VNU N.V | Netherlands | 82-2876
Vodafone Panafon Hellenic Telecommunications | Greece | 82-4969
Vodafone Telecel Comunicacoe Pessoais S.A | Portugal | 82-4528
Vodatel Networks Holdings Ltd | Bermuda | 82-5146
Vri Biomedical Ltd | Australia | 82-34683
Vtech Holdings Ltd | Bermuda | 82-3565
Wal Mart de Mexico S.A. de C.V | Mexico | 82-4609
Wanadoo | France | 82-5150
Washtec AG | Germany | 82-4888
Westone Ventures Inc | Canada | 82-4890
Wienerberger Baustoffindustrie AG | Austria | 82-4316
William Hill plc | United Kingdom | 82-34679
Windarra Minerals Ltd | Canada | 82-561
Wolford AG | Austria | 82-4403
Woodside Petroleum Ltd | Australia | 82-2280

[FR Doc. 03-16005 Filed 6-24-03; 8:45 am]

BILLING CODE 8010-01-U